ENVIRONMENTAL PROTECTION AGENCY

[FRL-9910-07-OSWER]

Santa Fe Springs Drums Site, Santa Fe Springs, CA; Notice of Proposed CERCLA Settlement Agreement for Recovery of Past Response Costs

AGENCY: Environmental Protection Agency (EPA).

ACTION: Notice; request for comment.

SUMMARY: In accordance with Section 122(i) of the Comprehensive Environmental Response, Compensation and Liability Act of 1980, as amended (CERCLA), 42 U.S.C. 9622(i), notice is hereby given of a proposed administrative settlement with two parties for recovery of response costs concerning the Santa Fe Springs Drums Superfund Site in Santa Fe Springs, California. The settlement is entered into pursuant to Section 122(h)(1) of CERCLA, 42 U.S.C. 9622(h)(1), and it requires the settling parties to pay $90,000 to the United States Environmental Protection Agency (Agency). The settlement includes a covenant not to sue the settling parties pursuant to Sections 106 or 107(a) of CERCLA, 42 U.S.C. 9606 or 9607(a). For thirty (30) days following the date of publication of this Notice in the Federal Register, the Agency will receive written comments relating to the settlement. The Agency will consider all comments received and may modify or withdraw its consent to the settlement if comments received disclose facts or considerations which indicate the proposed settlement is inappropriate, improper, or inadequate. The Agency's response to any comments received will be available for public inspection at 75 Hawthorne Street, San Francisco, CA 94105.

DATES: Pursuant to Section 122(i) of CERCLA, EPA will receive written comments relating to this proposed settlement until May 28, 2014.

ADDRESSES: The proposed settlement is available for public inspection at EPA Region IX, 75 Hawthorne Street, San Francisco, California. A copy of the proposed settlement may be obtained from Thanne Berg, EPA Region IX, 75 Hawthorne Street, ORC-3, San Francisco, CA 94105, telephone number 415-972-3908. Comments should reference the Santa Fe Springs Drums Superfund Site, Santa Fe Springs, California and should be addressed to Thanne Berg at the above address.

FOR FURTHER INFORMATION CONTACT: Thanne Berg, Assistant Regional Counsel (ORC-3), Office of Regional Counsel, U.S. EPA Region IX, 75 Hawthorne Street, San Francisco, CA 94105; phone: (415) 972-3908; fax: (417) 947-3570; email: berg.elizabeth@epa.gov.

SUPPLEMENTARY INFORMATION: Parties to the Proposed Settlement: Cindy Lee Bosshard and the Richard P. Harbaugh Living Trust UTD October 21, 2005.

Dated: April 16, 2014.
Enrique Manzanilla,
Director, Superfund Division, U.S. EPA, Region IX.

[FR Doc. 2014-09575 Filed 4-25-14; 8:45 am]

BILLING CODE 6560-50-P